DEPARTMENT OF AGRICULTURE

Submission for OMB Review; Comments Requested; Correction

February 25, 2021.

The Department of Agriculture will submit the following information collection requirement(s) to OMB for review and clearance under the Paperwork Reduction Act of 1995, Public Law 104-13 on or after the date of publication of this notice. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology Comments regarding these information collections are best assured of having their full effect if received by April 1, 2021. Written comments and recommendations for the proposed information collection should be submitted within 30 days of the publication of this notice on the following website www.reginfo.gov/public/do/PRAMain. Find this particular information collection by selecting “Currently under 30-day Review—Open for Public Comments” or by using the search function

An agency may not conduct or sponsor a collection of information unless the collection of information displays a currently valid OMB control number and the agency informs potential persons who are to respond to the collection of information that such persons are not required to respond to the collection of information unless it displays a currently valid OMB control number.

Agricultural Marketing Service

Title: Regulations and Related Reporting and Recording Requirements—FTPP, Packers and Stockyards Division

Action: Notice: Correction

OMB Control Number: 0580-0015

Summary of Collection: The Agricultural Marketing Service published a document in the Federal Register on February 24, 2021, Volume 86, Number 35, Page 11217, concerning a request for comments on the information collection ” Regulations and Related Reporting and Recording Requirements—FTPP, Packers and Stockyards Division”, OMB Control Number 0580-0015. The OMB control number 0580-0015 is incorrect. The correct OMB control number should be 0581-0308. The number of respondents 15,371 and burden hours 26,137 are incorrect. The correct number of respondents is 14,631 and the burden hours 51,526.

Ruth Brown,
Departmental Information Collection Clearance Officer.

[FR Doc. 2021-04248 Filed 3-1-21; 8:45 am]

BILLING CODE 3410-02-P